DEPARTMENT OF COMMERCE

International Trade Administration

Postponement of Preliminary Determinations of Antidumping Duty Investigations: Certain Color Television Receivers From Malaysia (A-557-812) and the People's Republic of China (A-570-884)

AGENCY: Import Administration, International Trade Administration, Department of Commerce.

SUMMARY: The Department of Commerce is postponing the preliminary determinations in the antidumping duty investigations of certain color television receivers from Malaysia and the People's Republic of China from October 9, 2003, until no later than November 21, 2003. These postponements are made pursuant to section 733(c)(1)(B) of the Tariff Act of 1930, as amended.

EFFECTIVE DATE: September 25, 2003.

FOR FURTHER INFORMATION CONTACT: Michael Strollo (Malaysia) or Irina Itkin (People's Republic of China) at (202) 482-0629 or (202) 482-0656, respectively, Import Administration, International Trade Administration, U.S. Department of Commerce, 14th Street and Constitution Avenue, NW., Washington DC 20230.

SUPPLEMENTARY INFORMATION:

Postponement of Due Date for Preliminary Determination

On May 29, 2003, the Department initiated antidumping duty investigations of imports of certain color television receivers from Malaysia and the People's Republic of China (PRC). See Notice of Initiation of Antidumping Duty Investigations: Certain Color Television Receivers From Malaysia and the People's Republic of China, 68 FR 32013 (May 29, 2003). The notice of initiation stated that we would issue our preliminary determinations no later than 140 days after the date of initiation. See Id. Currently, the preliminary determinations in this investigation are due on October 9, 2003.

Pursuant to section 733(c)(1)(B) of the Tariff Act of 1930, as amended by the Uruguay Round Agreements Act (“the Act”), the Department can extend the period for reaching a preliminary determination until no later than the 190th day after the date on which the administrating authority initiates an investigation if:

(B) The administrating authority concludes that the parties concerned are cooperating and determines that

(i) The case is extraordinarily complicated by reason of

(I) The number and complexity of the transactions to be investigated or adjustments to be considered,

(II) The novelty of the issues presented, or

(III) The number of firms whose activities must be investigated, and

(ii) Additional time is necessary to make the preliminary determination.

We find that all concerned parties are cooperating in both cases, and we find that these cases are extraordinarily complicated because of the novelty of the issues presented. Specifically, in the Malaysia investigation, the Department requires additional time to examine all relevant facts pertaining to the procurement of material inputs from suppliers located in non-market economy countries for its build-up of constructed value. In the PRC investigation, the Department requires additional time to examine all relevant facts in order to properly value factors of production using surrogate values. Pursuant to section 733(c)(1)(B) of the Act, we have determined that these cases are extraordinarily complicated and that additional time is necessary to make our preliminary determinations. Therefore, we are postponing the preliminary determinations until no later than November 21, 2003.

This notice is issued and published pursuant to section 733(c)(2) of the Act and 19 CFR 351.205(f).

Dated: September 17, 2003.
James J. Jochum,
Assistant Secretary for Import Administration.

[FR Doc. 03-24300 Filed 9-24-03; 8:45 am]

BILLING CODE 3510-DS-P